DEPARTMENT OF TRANSPORTATION

Federal Aviation Administration

14 CFR Part 39

[Docket No. FAA-2005-20023; Directorate Identifier 2004-NM-49-AD; Amendment 39-14067; AD 2005-08-15]

RIN 2120-AA64

Airworthiness Directives; Boeing Model 707 Airplanes and Model 720 and 720B Series Airplanes

AGENCY: Federal Aviation Administration (FAA), Department of Transportation (DOT).

ACTION: Final rule.

SUMMARY: The FAA is superseding an existing airworthiness directive (AD), which applies to certain Boeing Model 707 airplanes and Model 720 and 720B series airplanes. That AD currently requires a preventive modification of the front spar fitting on the outboard engine nacelle. This new AD removes the requirement to do this preventive modification, and requires repetitive inspections for cracking of the front spar fitting of the inboard and outboard nacelle struts, and replacement of any cracked fitting with a new fitting. This AD also applies to more airplanes. This AD is prompted by a report indicating that a crack was found in a front spar fitting that had been replaced as part of the modification required by the existing AD. We are issuing this AD to detect and correct this cracking, which could result in reduced structural integrity of the engine nacelle, and consequent separation of an engine from the airplane.

DATES: This AD becomes effective May 31, 2005.

The incorporation by reference of Boeing Alert Service Bulletin A3514, dated July 29, 2004, as listed in the AD, is approved by the Director of the Federal Register as of May 31, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20023; the directorate identifier for this docket is 2004-NM-49-AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION: The FAA proposed to amend part 39 of the Federal Aviation Regulations (14 CFR part 39) with an AD to supersede AD 2001-17-24, amendment 39-12415 (66 FR 45572, August 29, 2001). The existing AD applies to certain Boeing Model 707 airplanes and Model 720 and 720B series airplanes. The proposed AD was published in the Federal Register on January 12, 2005 (70 FR 2060), to remove the requirement to do the preventative modification of the front spar fitting on the outboard engine nacelle and to require repetitive inspections for cracking of the front spar fitting of the inboard and outboard nacelle struts, and replacement of any cracked fitting with a new fitting. The proposed AD would also apply to more airplanes.

Comments

We provided the public the opportunity to participate in the development of this AD. We have considered the single comment that has been submitted on the proposed AD. The commenter supports the proposed AD.

Explanation of Changes Made to This AD

Boeing has received a Delegation Option Authorization (DOA). We have revised this final rule to delegate the authority to approve an alternative method of compliance for any repair required by this AD to the Authorized Representative for the Boeing DOA Organization rather than the Designated Engineering Representative (DER).

We have removed paragraph (h)(1) of the proposed AD because paragraph (h)(2) would supersede those actions. We have re-identified paragraph (h)(2) of the proposed AD as paragraph (h) in this final rule.

Conclusion

We have carefully reviewed the available data, including the comment that has been submitted, and determined that air safety and the public interest require adopting the AD with the changes described previously. We have determined that these changes will neither increase the economic burden on any operator nor increase the scope of the AD.

Costs of Compliance

There are about 290 airplanes of the affected design in the worldwide fleet. The following table provides the estimated costs for U.S. operators to comply with this AD.

Estimated Costs
Action | Work hours | Average labor rate per hour | Parts | Cost per airplane | Number of U.S.-registered airplanes | Fleet cost
Inspection | 8 | $65 | None | $520, per inspection cycle | 87 | $45,240 per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporated by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12415 (66 FR 45572, August 29, 2001), and by adding the following new airworthiness directive (AD):

2005-08-15 Boeing: Amendment 39-14067. Docket No. FAA-2005-20023; Directorate Identifier 2004-NM-49-AD.

Effective Date

(a) This AD becomes effective May 31, 2005.

Affected ADs

(b) This AD supersedes AD 2001-17-24, amendment 39-12415 (66 FR 45572, August 29, 2001).

Applicability

(c) This AD applies to Boeing Model 707-100 long body, -200, -100B long body, and -100B short body series airplanes; Model 707-300, -300B, -300C, and -400 series airplanes; and Model 720 and 720B series airplanes; certificated in any category; having line numbers 1 through 1012 inclusive.

Unsafe Condition

(d) This AD was prompted by a report indicating that a crack was found in a front spar fitting that had been replaced as part of the modification required by AD 2001-17-24. We are issuing this AD to detect and correct this cracking, which could result in reduced structural integrity of the engine nacelle, and consequent separation of an engine from the airplane.

Compliance

(e) You are responsible for having the actions required by this AD performed within the compliance times specified, unless the actions have already been done.

Inspection

(f) Prior to the accumulation of 3,500 total flight hours, or within 18 months after the effective date of this AD, whichever occurs later: Do a detailed inspection for cracking of the front spar fitting of the inboard and outboard nacelles according to the Accomplishment Instructions of Boeing Alert Service Bulletin A3514, dated July 29, 2004. Repeat the inspection thereafter at intervals not to exceed 700 flight hours.

Note 1: There is no terminating action at this time for the repetitive inspections required by paragraph (f) of this AD.

Replacement

(g) If any cracking is found during any inspection required by paragraph (f) of this AD: Before further flight, replace the cracked front spar fitting with a new fitting, according to the Accomplishment Instructions of Boeing Alert Service Bulletin A3514, dated July 29, 2004.

Parts Installation

(h) As of the effective date of this AD, no person may install, on any airplane, a front spar fitting having a part number other than the part numbers specified in paragraph 2.C.2. of Boeing Alert Service Bulletin A3514, dated July 29, 2004.

Alternative Methods of Compliance (AMOCs)

(i)(1) The Manager, Seattle Aircraft Certification Office (ACO), FAA, has the authority to approve AMOCs for this AD, if requested in accordance with the procedures found in 14 CFR 39.19.

(2) An AMOC that provides an acceptable level of safety may be used for any repair that is required by this AD, if it is approved by an Authorized Representative for the Boeing DOA Organization who has been authorized by the Manager, Seattle ACO, to make those findings. For a repair method to be approved, the repair must meet the certification basis of the airplane, and the approval must specifically refer to this AD.

Material Incorporated by Reference

(j) You must use Boeing Alert Service Bulletin A3514, dated July 29, 2004, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, contact the Docket Management Facility, U.S. Department of Transportation, 400 Seventh Street SW., room PL-401, Nassif Building, Washington, DC. To review copies of the service information, contact the National Archives and Records Administration (NARA). For information on the availability of this material at the NARA, call (202) 741-6030, or go to http://www.archives.gov/federal_register/code_of_federal_regulations/ibr_locations.html.

Issued in Renton, Washington, on April 13, 2005.
Ali Bahrami,
Manager, Transport Airplane Directorate, Aircraft Certification Service.

[FR Doc. 05-7996 Filed 4-22-05; 8:45 am]

BILLING CODE 4910-13-P